DEPARTMENT OF THE INTERIOR

U.S. Geological Survey

[GX18DK10GUH0300; OMB Control Number 1028-0118/Renewal]

Agency Information Collection Activities; Submission to the Office of Management and Budget for Review and Approval; USGS Water Use Data and Research Program Announcement

AGENCY: U.S. Geological Survey, Interior.

ACTION: Notice of information collection; request for comment.

SUMMARY: In accordance with the Paperwork Reduction Act of 1995, we, the U.S. Geological Survey (USGS) are proposing to renew an information collection.

DATES: Interested persons are invited to submit comments on or before May 30, 2019.

ADDRESSES: Send written comments on this information collection request (ICR) to the Office of Management and Budget's Desk Officer for the Department of the Interior by email at OIRA_Submission@omb.eop.gov; or via facsimile to (202) 395-5806. Please provide a copy of your comments to USGS, Information Collections Clearance Officer, 12201 Sunrise Valley Drive, MS 159, Reston, VA 20192; or by email to gs-info_collections@usgs.gov. Please reference OMB Control Number 1028-0118 in the subject line of your comments.

FOR FURTHER INFORMATION CONTACT: To request additional information about this ICR, contact Cheryl A. Dieter by email at cadieter@usgs.gov, or by telephone at 443-498-5537. You may also view the ICR at: http://www.reginfo.gov/public/do/PRAMain.

SUPPLEMENTARY INFORMATION: We, the USGS, in accordance with the Paperwork Reduction Act of 1995, provide the general public and other Federal agencies with an opportunity to comment on proposed, revised, and continuing collections of information. This helps us assess the impact of our information collection requirements and minimize the public's reporting burden. It also helps the public understand our information collection requirements and provide the requested data in the desired format.

A Federal Register notice with a 60-day public comment period soliciting comments on this collection of information was published on Thursday, October 25, 2018 (83 FR 53895). No comments were received.

We are again soliciting comments on the proposed ICR that is described below. We are especially interested in public comment addressing the following issues: (1) Is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. Before including your address, phone number, email address, or other personal identifying information in your comment, you should be aware that your entire comment—including your personal identifying information—may be made publicly available at any time. While you may ask us in your comment to withhold your personal identifying information from public review, we cannot guarantee that we will be able to do so.

Abstract: The USGS is authorized under SECURE Water Act Section 9508 to assist state water resource agencies with improving their water use data collection activities. The USGS has implemented the Water Use Data and Research program (WUDR) to work with state water agencies in gathering and analyzing their data and assists this effort via cooperative agreements. WUDR will work to improve the collection and reporting of water-use categories by state agencies, including categories of water use that were previously discontinued due to limited resources. This collection will be used in reports to Congress on water resources in the Nation. Total program authorization is $12,500,000 for a period of five years.

Cooperative agreements will be announced and awarded as part of a competitive process that will be guided, annually, by a technical committee whose members will include representatives from the stakeholder community as well as the USGS. WUDR funds will be coordinated with a single agency in each state. Collaboration and coordination with USGS personnel will be required as part of the WUDR program. Data must be stored electronically and made available in machine readable formats that can be incorporated into USGS databases. Additionally, methods used for data collection (estimated values, coefficients, etc.) and a description of data quality assurance and control must be provided to the USGS.

Title of Collection: USGS Water Use Data and Research Program Announcement.

OMB Control Number: 1028-0118.

Form Number: None.

Type of Review: Extension of a currently approved collection.

Respondents/Affected Public: State water-resource agencies that collect water-use data.

Total Estimated Number of Annual Respondents: WUDR estimates that 30 respondents (states) will read the Program Announcement, 14 respondents will submit applications, and 12 respondents will submit semi-annual progress reports and a final technical report.

Total Estimated Number of Annual Responses: 14 applications, 24 progress reports, and 12 final technical reports.

Estimated Completion Time per Response: Read Program announcement: 1 hour; prepare applications: 40 hours; progress reports: 4 hours; final technical report: 24 hours.

Total Estimated Number of Annual Burden Hours: 974 hours.

Respondent's Obligation: Mandatory to be eligible to receive funding.

Frequency of Collection: Program Announcements are published annually. Proposals are submitted annually by State Water Resource Agencies wishing to compete for funding as related to the annual Program Announcement. State water-resource agencies that receive a cooperative agreement must submit semi-annual progress reports and a final technical report.

Total Estimated Annual Non-hour Burden Cost: None.

An agency may not conduct or sponsor and a person is not required to respond to a collection of information unless it displays a currently valid OMB control number.

The authority for this action is the Paperwork Reduction Act of 1995 (44 U.S.C. 3501, et seq.).

Melinda Dalton,
Program Coordinator, Water Availability and Use Science Program.

[FR Doc. 2019-08632 Filed 4-29-19; 8:45 am]

BILLING CODE 4338-11-P